DEPARTMENT OF STATE

22 CFR Part 51

RIN 1400-AC28

[Public Notice: 6071]

Passports; Correction

AGENCY: Department of State.

ACTION: Final rule; correction.

SUMMARY: This document contains a correction to the revised Passport rule published in the Federal Register on November 19, 2007, 72 FR 64930.

DATES: Effective on February 1, 2008.

FOR FURTHER INFORMATION CONTACT: Consuelo Pachon, Office of Legal Affairs and Law Enforcement Liaison, Bureau of Consular Affairs, 2100 Pennsylvania Avenue, NW., Suite 3000, Washington, DC., telephone number 202-663-2431.

Background

The rule reorganizes, restructures, and updates the passport regulations in order to make them easier for users to access the information, to better reflect current practice and changes in statutory authority, and to remove outdated provisions.

Need for Correction

The final passport rule published on November 19, 2007 erroneously labels two sentences in the rule contained in 22 CFR 51.21(b) and (c) as a “Note.” This correction deletes the labels “Note” and corrects the numbering of the two provisions.

Correction

The final passport rule published on November 19, 2007 (72 FR 64930) is corrected as follows:

1. On page 64933, 22 CFR part 51.21 is corrected by making the following correcting amendments:

PART 51—PASSPORTS

Section 51.21(b) and (c) is revised to read as follows:

§ 51.21 Execution of passport application.

* * * * *

(b) Application by mail—persons in the United States. (1) A person in the United States who previously has been issued a passport valid for 10 years in his or her own name may apply for a new passport by filling out, signing and mailing an application on the form prescribed by the Department if:

(i) The most recently issued previous passport was issued when the applicant was 16 years of age or older;

(ii) The application is made not more than 15 years following the issue date of the previous passport, except as provided in paragraph (e) of this section; and

(iii) The most recently issued previous passport of the same type is submitted with the new application.

(2) The applicant must also provide photographs as prescribed by the Department and pay the applicable fees prescribed in the Schedule of Fees for Consular Services (22 CFR 22.1).

(c) Application by mail—persons abroad. (1) A person in a foreign country where the Department has authorized a post to receive passport applications by mail who previously has been issued a passport valid for 10 years in his or her own name may apply for a new passport in that country by filling out, signing and mailing an application on the form prescribed by the Department if:

(i) The most recently issued previous passport was issued when the applicant was 16 years of age or older;

(ii) The application is made not more than 15 years following the issue date of the previous passport, except as provided in paragraph (e) of this section; and

(iii) The most recently issued previous passport of the same type is submitted with the new application.

(2) The applicant must also provide photographs as prescribed by the Department and pay the applicable fees prescribed in the Schedule of Fees for Consular Services (22 CFR 22.1).

* * * * *

Dated: January 18, 2008.
Ann Barrett,
Deputy Assistant Secretary, Bureau of Consular Affairs, Department of State.

[FR Doc. E8-1205 Filed 1-23-08; 8:45 am]

BILLING CODE 4710-06-P